OFFICE OF UNITED STATES TRADE REPRESENTATIVE

Notice of Partially Opened Meeting of the Industry Trade Advisory Committee on Small and Minority Business (ITAC 11)

AGENCY: Office of the United States Trade Representative.

ACTION: Notice of partially opened meeting.

SUMMARY: The Industry Trade Advisory Committee on Small and Minority Business (ITAC 11) will hold a meeting on Monday, May 19, 2014. The meeting will be open to the public from 3:00-4:00 p.m.

DATES: The meeting will be held on May 19, 2014.

ADDRESSES: The meeting will be held at the Ronald Reagan International Trade Center, 1300 Pennsylvania Ave. NW., Suite M800, Training Room C, Washington, DC 20004.

FOR FURTHER INFORMATION CONTACT: Questions should be directed to Laura Hellstem, Designated Federal Officer, Industry Trade Advisory Center (ITAC), U.S. Department of Commerce, 1401 Constitution Ave. NW., Room 4043, Washington, DC 20230; by Fax: (202) 482-3268; or by email: Laura.Hellstem@trade.gov.

SUPPLEMENTARY INFORMATION: The open portion of this ITAC 11 meeting will consist of an update on the Trade Promotion Authority by staff of the Senate Finance Committee and House Committee on Ways and Means.

Jewel James,
Assistant United State Trade Representative, for Intergovernmental Affairs and Public Engagement.

[FR Doc. 2014-10267 Filed 5-5-14; 8:45 am]

BILLING CODE 3290-F4-P